DEPARTMENT OF TRANSPORTATION

Federal Railroad Administration

[Docket Number FRA-2009-0023]

Petition for Amending Waiver of Compliance

In accordance with Part 211 of Title 49 Code of Federal Regulations (CFR), this document provides the public notice that a document dated March 8, 2014, the Hoosier Valley Railroad Museum (HVRM) petitioned the Federal Railroad Administration (FRA) with a request to extend the waiver of compliance granted by FRA on September 11, 2009, that provided relief from certain provisions of 49 CFR 240.201(d), Implementation. The petition was assigned to Docket Number FRA-2009-0023.

HVRM seeks to extend the period of current relief regarding compliance with 49 CFR 240.201(d), which requires that “[a]fter December 31, 1991, no railroad shall permit or require any person to operate a locomotive in any class of locomotive or train service unless that person has been certified as a qualified locomotive engineer and issued a certificate that complies with 240.223.” HVRM desires to continue its “engineer-for-an-hour” operation, which allows noncertified individuals (generally, members of the public visiting the museum) to operate a locomotive between Milepost (MP) 213.5 and MP 216. HVRM believes that extending this waiver will enable it to continue to generate funds to support its goal of acquiring and refurbishing railroad antiquities so that they may be enjoyed by future generations.

HVRM, which is controlled and operated by the Chesapeake and Indiana Railroad, operates between MP 212.5 and MP 223.0 on track owned by the Town of North Judson, IN. The museum's depot is located approximately at MP 213.4. HVRM will continue to verify that each participant is in possession of a valid State-issued motor vehicle license, evaluate each participant visually for fitness to operate the locomotive with respect to obvious signs of alcohol and/or drug use, and will have a certified locomotive engineer in the cab at all times. The operations will be conducted under Absolute Block Authority (a section of track that can only be occupied by one train at a time) on only a designated portion of track only during daylight hours. An HVRM-qualified locomotive engineer will conduct a job briefing with each participant to ensure all parties know and understand the movement to be made and the individual responsibilities in the proposed movements. HVRM would limit engineer-for-an-hour train size to one locomotive and not more than three cars with no revenue passengers or members of the public on board during operations. Any accident or incident that occurs during an engineer-for-an-hour movement will be immediately reported to FRA. HVRM also believes these operations will not pose any safety concerns to the public at large.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within June 16, 2014 of the date of this notice will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-09790 Filed 4-29-14; 8:45 am]

BILLING CODE 4910-06-P